DEPARTMENT OF HEALTH AND HUMAN SERVICES

Centers for Disease Control and Prevention

[30Day-23-1166]

Agency Forms Undergoing Paperwork Reduction Act Review

In accordance with the Paperwork Reduction Act of 1995, the Centers for Disease Control and Prevention (CDC) has submitted the information collection request titled “Poison Center Collaborations for Public Health Emergencies (PCCPHE)” to the Office of Management and Budget (OMB) for review and approval. CDC previously published a “Proposed Data Collection Submitted for Public Comment and Recommendations” notice on August 26, 2022 to obtain comments from the public and affected agencies. CDC received no substantive public comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Poison Center Collaborations for Public Health Emergencies (PCCPHE)(OMB Control No. 0920-1166, Exp. 04/30/2023)—Revision—National Center for Environmental Health (NCEH), Centers for Disease Control and Prevention (CDC).

Background and Brief Description

The Centers for Disease Control and Prevention (CDC) is requesting a three-year Paperwork Reduction Act (PRA) Revision of the Generic Information Collection Request (Generic ICR) titled Poison Center Collaborations for Public Health Emergencies (PCCPHE) (OMB Control No. 0920-1166; Expiration Date 04/30/2023).

CDC's key partner is America's Poison Centers, formerly known as the American Association of Poison Control Centers (AAPCC). America's Poison Centers is a national network of 55 poison centers working to prevent and treat poison exposures. America's Poison Centers manages its existing surveillance system called the National Poison Data System (NPDS) and provides CDC access to monitor this system under a cooperative agreement and a data license agreement.

When a public health emergency of interest emerges in NPDS, the CDC and America's Poison Centers hold a meeting to mutually decide whether the incident needs further investigation. For a public health emergency to be selected for call-back, adverse health effects must have occurred, and a response is needed to prevent further morbidity and mortality. The event must meet the following criteria: (1) the event is a public health emergency causing adverse health effects; (2) timely data are urgently needed to inform rapid public health action to prevent or reduce injury, disease, or death; (3) the incident is characterized by a natural or man-made disaster, contaminated food or water, a new or existing consumer product, or an emerging public health threat; (4) the incident has resulted in calls to a poison center, and the poison center agrees to conduct the call-back data collection; (5) the incident is domestic; and (6) data collection will be completed in 60 days or less.

The purpose of this Generic ICR is to create a timely mechanism to allow poison centers, supported by CDC, to follow-up with callers during select public health emergencies on exposure and health. These PCCPHE Generic Information Collections (GenICs) will obtain information on sources of exposure, scenario of exposure, health seeking behaviors following exposure, and awareness of health communication messaging. These additional data can help CDC identify interventions to improve health messaging meant to reduce exposure; improve disaster and emergency response; and prevent future events for the specific area or incident of interest.

Trained poison center staff will conduct the call-back telephone survey or will facilitate the call-back web survey, after administering consent. Respondents will include individuals who call poison centers about exposures related to the select public health emergencies. These respondents include adults, 18 years and older; adolescents, 15 to less than 18 years; and parents or guardians on behalf of their children less than 15 years of age.

In 2019, a PCCPHE GenIC, titled “Risk Factors for Harmful Algal Blooms (HABs),” was conducted to identify sources of and risk factors for HAB exposures. New information gained about HAB exposures were used improve HAB incident response, communication, and outreach at the state and national level. During the past three-year approval period, no PCCPHE GenICs were conducted; however, two NPDS-related follow-up studies were implemented using the Secretary's Public Health Emergency PRA Waiver for COVID-19. During a non-pandemic situation, these two studies would have used this Generic ICR. These studies assessed unintentional exposures associated with cleaning products (e.g., bleach, hand sanitizers) in home settings to determine knowledge, attitudes, and practices regarding cleaning behaviors and help guide public health messaging.

Based on CDC's past experience, the following revisions affecting public burden are proposed. CDC plans to increase the annual number of public health emergencies of interest from two to three per year. CDC will reduce the estimated time per response from 40 minutes to 10 minutes. CDC plans to add web surveys as a second secure mode of collection to the currently approved telephone surveys. CDC will also increase the annual number of respondents from 150 to 500 per call-back investigation.

Based on these revisions, the annual time burden requested is 250 hours, which is an increase of 50 hours over the 200 hours previously approved. There is no cost to the respondents other than their time.

Estimated Annualized Burden Hours
Type of respondent | Form name | Number of respondents | Number of responses per respondent | Average burden per response (in hours)
Adult Poison Center Callers | Call-back Questionnaire for Self | 1,200 | 1 | 10/60
Adolescent Poison Center Callers | Call-back Questionnaire for Self | 150 | 1 | 10/60
Parent or Guardian Poison Center Callers | Call-back Questionnaire for Proxy | 150 | 1 | 10/60

Jeffrey M. Zirger,
Lead, Information Collection Review Office, Office of Scientific Integrity, Office of Science, Centers for Disease Control and Prevention.

[FR Doc. 2022-26306 Filed 12-1-22; 8:45 am]

BILLING CODE 4163-18-P